FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than August 1, 2014.

A. Federal Reserve Bank of Richmond (Adam M. Drimer, Assistant Vice President) 701 East Byrd Street, Richmond, Virginia 23261-4528:

1. Eagle Bancorp, Inc., Bethesda, Maryland; to acquire 100 percent of the voting shares of Virginia Heritage Bank, Vienna, Virginia.

2. HomeTrust Bancshares, Inc., Asheville, North Carolina; to become a bank holding company upon the conversion of HomeTrust Bank, Asheville, North Carolina, to a national bank.

In connection with this application, Applicant has also applied to engage in extending credit and servicing loans and acquiring debt in default, pursuant to sections 225.28(b)(1) and (b)(2)(vii), respectively.

B. Federal Reserve Bank of Kansas City (Dennis Denney, Assistant Vice President) 1 Memorial Drive, Kansas City, Missouri 64198-0001:

1. First National Bancshares of Weatherford, Inc. Employee Stock Ownership Plan, Weatherford, Oklahoma; to become a bank holding company by acquiring at least 26 percent of the voting shares of First National Bancshares of Weatherford, Inc., and First National Bank and Trust Company of Weatherford, Inc., both in Weatherford, Oklahoma.

Board of Governors of the Federal Reserve System, July 3, 2014.
Michael J. Lewandowski,
Associate Secretary of the Board.

[FR Doc. 2014-16007 Filed 7-8-14; 8:45 am]

BILLING CODE 6210-01-P